DEPARTMENT OF COMMERCE

International Trade Administration

[A-570-863]

Honey From the People's Republic of China: Preliminary Results and Partial Rescission of Antidumping Duty Administrative Review

AGENCY: Import Administration, International Trade Administration, Department of Commerce.

SUMMARY: The Department of Commerce (“Department”) is currently conducting the aligned semi-annual 2005-2006 new shipper review and 2005-2006 administrative review of the antidumping duty order on honey from the People's Republic of China (“PRC”). The period of review (“POR”) for both the new shipper review and administrative review is December 1, 2005, through November 30, 2006. Five respondents reported that they had no exports or sales of the subject merchandise during the POR; therefore, we are preliminarily rescinding our review of these companies. We preliminarily determine that Wuhu Qinshi Tangye Co., Ltd. (“Wuhu Qinshi”); Jiangsu Light Industry Products Imp & Exp (Group) Corp. (“Jiangsu Light”); Qinhuangdao Municipal Dafeng Industrial Co., Ltd. (“QMD”); and Inner Mongolia Altin Bee-Keeping (“IMA”) have failed to cooperate by not acting to the best of their ability to comply with our requests for information and, as a result, should be assigned a rate based on adverse facts available. Additionally, we have preliminarily determined that, because the Department has not calculated antidumping duty margins in this segment of the proceeding, the two separate rate companies in the administrative review will be assigned the separate rate margin from the most recent segment of this proceeding in which such a rate was calculated, which in this case is the less than fair value (“LTFV”) investigation. Finally, we have preliminarily determined that QHD Sanhai Honey Co., Ltd. (“QHD Sanhai”), the new shipper respondent, did not make sales of subject merchandise to the United States below normal value. If these preliminary results are adopted in our final results of this review, we will instruct U.S. Customs and Border Protection (“CBP”) to assess antidumping duties on all appropriate entries of subject merchandise during the POR.

Interested parties are invited to comment on these preliminary results. We will issue the final results no later than 120 days from the date of publication of this notice.

EFFECTIVE DATE: January 16, 2008.

FOR FURTHER INFORMATION CONTACT: Bobby Wong or Michael Quigley, AD/CVD Operations, Office 9, Import Administration, International Trade Administration, U.S. Department of Commerce, 14th Street and Constitution Avenue, NW., Washington, DC 20230; telephone: (202) 482-0409 or (202) 482-4047, respectively.

SUPPLEMENTARY INFORMATION:

Background

On December 1, 2006, the Department published a notice of Antidumping or Countervailing Duty Order, Finding, or Suspended Investigation; Opportunity To Request Administrative Review, 71 FR 69543 (December 1, 2006). On December 27, 2007, in accordance with 19 CFR 351.213(b), the Department received timely requests from QMD, IMA, and Dongtai Peak Honey Industry Co, Ltd. (“Dongtai Peak”), for administrative reviews. On December 29, 2006, in accordance with 19 CFR 351.213(b), the Department received a timely request from Zhejiang Native Produce & Animal By-Products I/E Group Corporation (“Zhejiang Native”), for an administrative review. On December 28, 2006, the Department received a timely request from QHD Sanhai, in accordance with section 751(a)(2)(B) of the Tariff Act of 1930, as amended (“the Act”), and 19 CFR 351.214(c), for a new shipper review of the antidumping duty order on honey from the PRC. Also on December 29, 2006, the American Honey Producers Association and the Sioux Honey Association (collectively, “petitioners”), requested, in accordance with section 351.213(b) of the Department's regulations, an administrative review of entries of subject merchandise made during the POR by 30 Chinese producers/exporters.¹

¹ Petitioners' request included: Anhui Honghui Foodstuff (Group) Co., Ltd.; Apiarist Co.; Beijing World Trade Co., Ltd.; Cheng Du Wai Yuan Bee Products Co., Ltd.; Chiangmai Healthy Product Co., Ltd.; China Ocean Shipping Agency Beijing; Dongtai Peak Honey Industry Co., Ltd.; Eurasia Bee's Products Co., Ltd.; Hangzhou Golden Harvest Health Industry Co., Ltd.; Hangzhou Golden Dragon Group Corporation Ltd.; Hangzhou Xinsheng (or Xinyun) Shipping Agency Co., Ltd.; Inner Mongolia Altin Bee-Keeping; Inner Mongolia Youth Trade Development Co., Ltd.; Jiangsu Kanghong Natural Healthfoods Co., Ltd.; Jiangsu Light Industry Products Imp & Exp (Group) Corp.; Kunshan Xinrui Co., Ltd.; M&H Shipping (Shanghai) Corporation; Mgl Yung Sheng Honey Co., Ltd.; Qingdao Aolan Trade Co., Ltd.; Qinhuangdao Municipal Dafeng Industrial Co., Ltd.; Rich Shipping Company; Shanghai Bloom International Trading Co., Ltd.; Shanghai Taiside Trading Co., Ltd.; Shanghai Xinyun International Transportation Co., Ltd.; Sichuan-Dujiangyan Dubao Bee Industrial Co., Ltd.; Tianjin Eulia Honey Co., Ltd.; United Logistics Group Inc.; Wuhan Bee Healthy Co., Ltd.; Wuhan Shino-Food Trade Co., Ltd.; and Wuhu Qinshi Tangye Co., Ltd.

On February 2, 2007, the Department published a notice of initiation of an administrative review of the antidumping duty order on honey from the PRC covering the period December 1, 2005, through November 30, 2006. See Initiation of Antidumping and Countervailing Duty Administrative Reviews and Request for Revocation in Part, 72 FR 5005 (February 2, 2007) (“AR Initiation Notice”). On February 5, 2007, the Department published a notice of initiation of a new shipper review of the antidumping duty order on honey from the PRC covering the period December 1, 2005, through November 30, 2006. See Honey from the People's Republic of China: Initiation of New Shipper Antidumping Duty Reviews, 72 FR 5265 (February 5, 2007) (“NSR Initiation Notice”). On February 22, 2007, QHD Sanhai agreed to waive the new shipper review time limits, and on February 23, 2007, the Department aligned the new shipper review with the corresponding administrative review.

On February 12, 2007, the Department sent a request for quantity and value (“Q&V”) information to the 31 companies named in the AR Initiation Notice. On February 23, 2007, the Department received quantity and value questionnaire responses (“Q&V response”) from Dongtai Peak; QMD; IMA; and Chiangmai Healthy Product Co., Ltd. On February 26, 2007, the Department received a Q&V response and a separate rates certification from Zhejiang Native. On April 12, 2007, the Department received a separate rate application from Dongtai Peak, QMD, and IMA. On April 13, 2007, the Department received a separate rate application from Cheng Du Wai Yuan Bee Products Co., Ltd.

On March 21, 2007, the Department received and granted a deadline extension request to respond to the Department's Q&V questionnaire from Wuhu Qinshi Tangye Ltd., Co. (“Wuhu Qinshi”). See March 21, 2007, letter from Christopher Riker, Program Manager, to Wuhu Qinshi Tangye, regarding the 2005/2006 Administrative Review of the Antidumping Duty Order on Honey from the People's Republic of China. Subsequently, Wuhu Qinxhi did not submit its certified Q&V response.

On April 10, 2007, petitioners withdrew their request for review on 22 of the 30 Chinese companies in the administrative review: Anhui Honghui Foodstuff (Group) Co., Ltd.; Apiarist Co.; Beijing World Trade Co., Ltd.; Cheng Du Wai Yuan Bee Products Co., Ltd.; Chiangmai Healthy Product Co., Ltd.; China Ocean Shipping Agency Beijing; Eurasia Bee's Products Co., Ltd.; Hangzhou Golden Harvest Health Industry Co., Ltd.; Hangzhou Golden Dragon Group Corporation Ltd.; Hangzhou Xinsheng (or Xinyun) Shipping Agency Co., Ltd.; Jiangsu Kanghong Natural Health Foods Co., Ltd.; Kunshan Xinrui Co., Ltd.; M&H Shipping (Shanghai) Corporation; Qingdao Aolan Trade Co., Ltd.; Rich Shipping Company; Shanghai Taiside Trading Co., Ltd.; Shanghai Xinyun International Transportation Co., Ltd.; Sichuan Dujiangyan Dubao Bee Industrial Co., Ltd.; Tianjin Eulia Honey Co., Ltd.; United Logistics Group Inc.; Wuhan Bee Healthy Co., Ltd.; Wuhan Shino-Food Trade Co., Ltd. Of the nine remaining companies named in the AR Initiation Notice, IMA, QMD, Dongtai Peak, and Zhejiang Native provided Q&V data and claimed shipments. Given the Department's limited resources and pursuant to section 777A(c)(2)(B) of the Act, in order to cover the greatest possible export volume, the Department selected IMA and QMD as mandatory respondents in the administrative review, which are the two largest producer/exporters by export volume during the POR.² On April 17, 2007, the Department selected IMA and QMD as mandatory respondents and issued antidumping duty questionnaires to IMA and QMD (“AR original questionnaire”). See April 17, 2007, Memorandum to James Doyle, Office Director, from Anya Naschak, Senior International Compliance Analyst, Through Christopher Riker, Program Manager, regarding the Antidumping Duty Administrative Review of Honey from the People's Republic of China: Selection of Respondents. On April 23, 2007, Zhejiang Native requested that the Department reconsider Zhejiang Native as either a mandatory or voluntary respondent for the administrative review.³

² Zhejiang Native and Dongtai Peak remained separate rate respondents in the administrative review.

³ See June 7, 2007, Memorandum to the File, From James Doyle, Director, Office 9, Regarding: Fifth Antidumping Duty Administrative Review of Honey from the People's Republic of China: Phone call with Counsel Regarding April 23, 2007, Submission.

On March 7, 2007, the Department sent “second chance” Q&V questionnaires to Wuhu Qinshi Tanye; Anhui Honghui Foodstuff (Group) Co., Ltd.; Wuhan Shino-Food Trade Co., Ltd.; Wuhan Bee Healthy Co., Ltd.; Shanghai Xinyun International Transportation Co.; Shanghai Taiside Trading Co., Ltd.; M&H Shipping (Shanghai) Corporation; Jiangsu Kanghong; Hangzhou Golden; Eurasia Bee's Products Co., Ltd.; Apiarist Co.; United Logistics Group; Rich Shipping Company; Mgl Yung Sheng Honey Co., Ltd.; Jiangsu Light Industry Products Imp & Exp (Group) Corp.; China Ocean Shipping Agency Beijing; and Tianjin Eulia Honey.

On May 3, 2007, the Department published a notice of partial rescission in the administrative review regarding the 22 companies for which petitioners withdrew their request for review in the administrative review. See Honey from the People's Republic of China: Notice of Partial Rescission of Antidumping Duty Administrative Review, 72 FR 24561 (May 3, 2007) (“AR Partial Rescission Notice”). On May 21, 2007, the Department invited interested parties to comment on the Department's surrogate country selection and/or significant production in the other potential surrogate countries and to submit publicly available information to value the factors of production in the new shipper and administrative reviews. See May 21, 2007, Letter to “All Interested Parties” from Christopher D. Riker, Program Manager, regarding Antidumping Duty New Shipper Review of Honey from the People's Republic of China: Letter enclosing the Office of Policy list of economically comparable countries and schedule for comments on surrogate country, and see also May 21, 2007, Letter to “All Interested Parties” from Christopher D. Riker, Program Manager, regarding Antidumping Duty Administrative Review of Honey from the People's Republic of China: Letter enclosing the Office of Policy list of economically comparable countries and schedule for comments on surrogate country (collectively, “Surrogate Country Letters”).

On July 31, 2007, the Department also published an extension of the time limits to complete the preliminary results. See Honey From the People's Republic of China: Extension of Preliminary Results of Antidumping Duty Administrative Review and Antidumping Duty New Shipper Review, 72 FR 41710 (July 31, 2007).

On August 15, 2007, the Department received notification from IMA that it intended to withdraw its request for a review in the administrative review. See August 15, 2007, letter to the U.S. Department of Commerce, from IMA, regarding Honey from the People's Republic of China. On October 18, 2007, the Department received notification from QMD, stating that it would not participate in the Department's scheduled verification of its questionnaire responses in Qinhuangdao, Hebei China. See October 18, 2007, letter to the U.S. Department of Commerce, from Qinghuangdao Municipal Dafeng Industrial Co., Ltd., regarding: Honey from the People's Republic of China. See infra for further discussion.

Questionnaires

On February 5, 2007, the Department issued an antidumping duty questionnaire to QHD Sanhai in the new shipper review (“NSR original questionnaire”). On March 19, 2007, the Department received QHD Sanhai's section A response to the Department's NSR original questionnaire. On March 30, 2007, the Department issued a supplemental section A questionnaire. On April 11, 2007, the Department received QHD Sanhai's section C and D response to the Department's NSR original questionnaire. On April 13, 2007, the Department received QHD Sanhai's section A response to the Department's supplemental questionnaire. On May 18, 2007, the Department issued a second supplemental questionnaire to QHD Sanhai. On June 15, 2007, the Department received QHD Sanhai's response to section A, C, and D of the Department's second supplemental questionnaire. On July 26, 2007, the Department issued an additional supplemental questionnaire to QHD Sanhai. On August 20, 2007, the Department received QHD Sanhai's supplemental questionnaire responses.

On April 17, 2007, the Department issued an antidumping duty questionnaire to IMA and QMD in the administrative review. On May 7, 2007, the Department received IMA and QMD's responses to section A of the Department's original questionnaire. On June 7, 2007, the Department received IMA and QMD's timely responses to section C and D of the Department's original questionnaire. On July 19, 2007, the Department issued a supplemental questionnaire to QMD. On July 31, 2007, the Department issued a supplemental questionnaire to IMA. However, IMA did not respond to the Department's supplemental questionnaire. On August 21, 2007, the Department issued a letter to IMA, requesting that it respond to the Department's outstanding supplemental questionnaire; furthermore, the Department extended the deadline for IMA to reply to the supplemental questionnaire. See August 21, 2007, letter to IMA, from Catherine Bertrand, Acting Program Manager, regarding the 2005/2006 Administrative Review of Honey from the People's Republic of China. Subsequently, the Department received no further correspondence from IMA. On August 14, 2007, the Department received a timely submission of QMD's response to the Department's supplemental questionnaire.

Non-Market Economy Country

In every case conducted by the Department involving the PRC, the PRC has been treated as a non-market economy (“NME”) country. See, e.g., Honey from the People's Republic of China: Final Results and Final Rescission, in Part, of Antidumping Duty Administrative Review, 71 FR 34893 (June 16, 2006), and the Fourth Honey AR Final Results, 72 FR 37715 (July 11, 2007). Pursuant to section 771(18)(C)(i) of the Act, any determination that a foreign country is a NME country shall remain in effect until revoked by the administering authority. See, e.g., Freshwater Crawfish Tail Meat from the People's Republic of China: Notice of Final Results of Antidumping Duty Administrative Review, 71 FR 7013 (February 10, 2006); and Carbazole Violet Pigment 23 from the People's Republic of China: Preliminary Results of Antidumping Duty Administrative Review and Rescission in Part, 71 FR 65073, 65074 (November 7, 2006) unchanged in Carbazole Violet Pigment 23 from the People's Republic of China: Final Results of Antidumping Duty Administrative Review, 72 FR 26589 (May 10, 2007). None of the parties to this proceeding have contested such treatment. Accordingly, we calculated NV in accordance with section 773(c) of the Act, which applies to NME countries.

Surrogate Country and Factors

Section 773(c)(4) of the Act requires the Department to value an NME producer's factors of production, to the extent possible, in one or more market-economy countries that (1) are at a level of economic development comparable to that of the NME country, and (2) are significant producers of comparable merchandise. India is among the countries comparable to the PRC in terms of overall economic development. See Memorandum to Christopher D. Riker, Program Manager, AC/CVD Operations, Office 9, from Ron Lorentzen, Director, Office of Policy, regarding the Antidumping Duty Administrative Review of Honey from the People's Republic of China (PRC): Request for a List of Surrogate Countries (April 2, 2007); and Memorandum to Christopher D. Riker, Program Manager, from Ron Lorentzen, Director, Office of Policy, regarding the New Shipper Review of Honey from the People's Republic of China (PRC): Request for a List of Surrogate Countries (April 2, 2007) (“Surrogate Country Letters”). In addition, based on publicly available information placed on the record (e.g., production data), India is a significant producer of the subject merchandise. See Memorandum to The File, through James C. Doyle, Director, AD/CVD Operations, Office 9, Import Administration, and Scot T. Fullerton, Program Manager, AD/CVD Operations, Office 9, from Michael J. Quigley, Case Analyst, AD/CVD Operations, Office 9, regarding Antidumping Duty Administrative and New Shipper Reviews of Honey from the People's Republic of China: Selection of a Surrogate Country (December 17, 2007). Accordingly, we have selected India as the primary surrogate country for purposes of valuing the factors of production because it meets the Department's criteria for surrogate-country selection. See id.

On May 21, 2007, the Department provided parties with an opportunity to submit publicly available information on surrogate countries and values for consideration in these preliminary results in the administrative and new shipper reviews. See Antidumping Duty New Shipper Review of Honey from the People's Republic of China: Letter enclosing the Office of Policy list of economically comparable countries and schedule for comments on surrogate country, dated May 21, 2007.

On October 17, 2007, QHD Sanhai submitted comments on surrogate information for the record of the new shipper review (see letter to the U.S. Department of Commerce, Regarding: QHD Sanhai Regarding the First Surrogate Value Submission in the New Shipper Review of Honey from the People's Republic of China (October 17, 2007)). On October 19, 2007, petitioners submitted their comments on surrogate information for the record of the new shipper and administrative review (see letter to the U.S. Department of Commerce, Regarding: 5th Administrative Review and 10th New Shipper Review of Honey from the People's Republic of China, dated October 17, 2007). On October 29, 2007, the Department received rebuttal comments on surrogate information from QHD Sanhai and Zhejiang Native (see October 29, 2007, letters to the U.S. Department of Commerce, from: Zhejiang Native, Regarding: Rebuttal to Petitioners' Surrogate Value Submission for the Fifth Antidumping Review of Honey from the People's Republic of China (A-570-863); and QHD Sanhai, Regarding: Rebuttal to Petitioners' Surrogate Value Submission for the New Shipper Review of Honey from the People's Republic of China). On November 6, 2007, QHD Sanhai and Zhejiang Native submitted additional comments on surrogate information to value factors of production in both the administrative and new shipper reviews.

Preliminary Partial Rescission of 2005/2006 Administrative Review

Mgl Yun Sheng Honey Co., Ltd.⁴; Inner Mongolia Youth Trade Development Co., Ltd.; and Shanghai Bloom International Trading Co., Ltd., certified that they did not export honey from China to the United States during the POR. To corroborate these certifications, the Department reviewed PRC honey shipment data maintained by CBP, and found no discrepancies with the statements made by these companies. Moreover, the Department also requested that CBP forward any information regarding entries of honey from these companies during the POR and received no reply.

⁴ See August 13, 2007, Memorandum to the File, from Catherine Bertrand, Senior International Trade Analyst, regarding: Administrative Review on Honey from the People's Republic of China for the period December 1, 2005 through November 30, 2006; and August 15, 2007, Memorandum to the File, from Catherine Bertrand, Senior International Trade Analyst, regarding: Administrative Review on Honey from the People's Republic of China for the period December 1, 2005 through November 30, 2006.

Therefore, for the reasons noted above, we are preliminarily rescinding the administrative review with respect to Inner Mongolia Youth Trade Development Co., Ltd.; Mgl Yung Sheng Honey Co., Ltd.; and Shanghai Bloom International Trading Co., Ltd., because the Department was unable to reach the companies, or the company reported that it did not make shipments of subject merchandise during the POR, and the Department found no information to indicate otherwise.⁵

⁵ The Department requested shipment information for Shanghai Bloom International Trading Co., Ltd. solely for the period July 1, 2006, through November 30, 2006. The Department had previously reviewed Shanghai Bloom International Trading Co., Ltd. as a new shipper for the period December 1, 2005, through June 30, 2006. See Honey from the People's Republic of China: Final Results of Antidumping Duty New Shipper Review, 72 FR 67702, November 30, 2007.

Separate Rates

Administrative Review

Based on timely requests from individual exporters and petitioners, the Department originally initiated this review with respect to 31 companies in the administrative review. Subsequently, petitioners withdrew their review request for certain of these companies and thus the Department rescinded the review with respect to 22 companies. Of the nine companies remaining in the review, only four companies provided Q&V data and claimed shipments. Those four companies (Dongtai Peak Honey Industry Co., Ltd., Inner Mongolia Altin Bee-Keeping, Qinhuangdao Municipal Dafeng Industrial Co., Ltd., and Zhejiang Native Produce & Animal By-Products I/E Group Corporation) comprised the pool of companies considered in the selection of respondents for this review. However, due to its limited resources, the Department was unable to examine all companies for which a review request was made. Therefore, as previously stated, the Department selected two producers/exporters as mandatory respondents: QMD and IMA. Two additional companies, Zhejiang Native and Dongtai Peak, submitted timely information as requested by the Department and remain subject to review as cooperative separate rate respondents.

Ultimately, both QMD and IMA ceased participating in the administrative review, and both Wuhu Qinshi and Jiangsu Light did not respond to the Department's multiple requests for information. Therefore, for these preliminary results, the Department finds that these four entities are not entitled to a separate rate and thus are considered part of the PRC-wide entity, which is preliminarily assigned an adverse facts available (“AFA”) rate of 221.02 percent, as further discussed below.

The Department must also assign a rate to the remaining two cooperative separate rate respondents not selected for individual examination. We note that the statute and the Department's regulations do not directly address the establishment of a rate to be applied to individual companies not selected for examination where the Department limited its examination in an administrative review pursuant to section 777(A)(c)(2) of the Act. The Department's practice in this regard, in cases involving limited selection based on exporters accounting for the largest volumes of trade, has been to weight-average the rates for the selected companies excluding zero and de minimis rates and rates based entirely on adverse facts available. In the instant administrative review, however, the rate for the mandatory respondents is the rate for the PRC-wide entity based on total AFA.

While the statute does not specifically address this particular set of circumstances, section 735(c)(5)(B) of the Act does specify the methodology to be followed when a similar fact pattern arises in the context of the all-others rate established in an investigation. While not entirely analogous to the determination of a rate to be applied to responsive separate rate respondents in the context of a NME review, we find it to be instructive in these circumstances.

Section 735(c)(5)(B) of the Act states that in situations where the estimated weighted-average dumping margins established for all exporters and producers individually investigated are zero or de minimis, or are determined entirely under section 776 (facts available section), “the administering authority may use any reasonable method to establish the estimated all-others rate for exporters and producers not individually investigated, including averaging the weighted-average dumping margins determined for the exporters and producers individually investigated.”

The SAA states that in using any reasonable method to calculate the all-others rate, “the expected method in such cases will be to weight-average the zero and de minimis margins and margins determined pursuant to the facts available, provided that volume data is available.” See SAA at 203. However, the SAA also provides that: [If] this method is not feasible, or if it results in an average that would not be reasonably reflective of potential dumping margins for non-investigated exporters or producers, Commerce may use other reasonable means.” Id.

In the instant administrative review, the Department preliminarily concludes that it cannot accurately determine a margin based on information provided by the separate rate entities. Furthermore, we preliminarily find that we cannot employ alternative methods such as applying AFA, de minimis and zero rates, or partial use of the information on the record. Specifically, while the separate rates entities have given us total volume and value information with respect to subject merchandise, we note that processed honey prices vary dramatically depending on the quality and packaging of the honey. Margins calculated on the basis of average prices without regard to quality and other factors do not reflect a meaningful, accurate comparison, and therefore we find we must look to other reasonable means to determine an appropriate margin for the separate rate entities subject to this review. In the case of Zhejiang Native and Dongtai Peak, we received voluntary questionnaire responses, but we have not examined these submissions because of the Department's resource constraints and its decision to review only two exporters.

The Department has therefore preliminarily determined to assign Zhejiang Native and Dongtai Peak the separate rate margin calculated in the most recent segment of Honey from the People's Republic of China in which a separate margin was calculated. See Notice of Amended Final Determination of Sales at Less than Fair Value and Antidumping Duty Order; Honey from the People's Republic of China, 66 FR 63670 (December 10, 2001) (“Honey Investigation”). The rate of 45.46 percent calculated in the LTFV investigation was based on the Department's thorough examination of cooperative companies during the period of investigation. Therefore, we find it a reasonable means by which to determine a rate for non-examined cooperative separate entities and have employed this methodology for purposes of these preliminary results. Given that the most recent rate calculated in the antidumping duty order on honey from the PRC for unexamined separate rate companies is from the LTFV investigation, we invite comments on the selection of this rate for purposes of the final results.

Separate Rates

New Shipper Review

With respect to the new shipper review for QHD Sanhai, QHD Sanhai has asserted the following: (1) It is a privately owned company; (2) there is no government participation in its setting of export prices; (3) its executive director has the authority to sign binding sales contracts; (4) the company's executive director appoints the company's management and it does not have to notify government authorities of its management selection; (5) there are no restrictions on the use of its export revenue; and (6) its executive director decides how profits will be used.

In support of its claim that QHD Sanhai independently set its sales prices, QHD Sanhai stated that sales negotiations were conducted primarily through e-mails; QHD Sanhai placed copies on the record of its e-mail correspondence and price negotiation between itself and its U.S. customer during the POR.⁶ Furthermore, QHD Sanhai company officials stated that the sales price and quantity are finalized when the sales invoice is issued.

⁶ See, e.g., QHD Sanhai's Section A response at Exhibit A-5; and the QHD Verification Report at Exhibit 8 & 12.

At the verification of QHD Sanhai, prior to presenting the documentation to Chinese Customs, the Department found that the company's sales invoices required a “pre-review stamp” from the Chinese Chamber of Commerce for Commerce for Import and Export of Foodstuffs, Native Produce and Animal By-Products (“the Chamber”). See QHD Sanhai Verification Report at Exhibit 8. Additionally, company officials provided documentation of all products that require the “pre-review stamp” from various sub-chambers of the Chinese Chamber of Commerce. QHD Sanhai explained that obtaining a “pre-review stamp” from the Chamber is an administrative formality, and it has no authority over QHD Sanhai's ability to negotiate or set prices. See QHD Sanhai Verification Report at Section III(A)(5) and Exhibit 8.

The Department successfully verified that QHD Sanhai is a privately owned company; independently negotiated and set prices; independently selected management; and that QHD Sanhai had authority to determine the use of sales revenue (see QHD Sanhai Verification Report at Section III(A) and (B) and at exhibit 8 & 12). Moreover, the Department found no indications of restrictions on the use of export revenue (id.). QHD Sanhai supplied sales negotiation documentation including a purchase order, sales contract, and sales invoices between it and unaffiliated third party customers, demonstrating its independent setting of export prices. See QHD Sanhai Verification Report at exhibit 12.

As the evidence on the record indicates an absence of government control, both in law and in fact, over QHD Sanhai's export activities, we preliminarily determine that it has met the criteria for the application of a separate rate. However, we will continue to carefully examine these issues for the purposes of the final results.

PRC-Wide Rate and Facts Otherwise Available

The PRC-wide rate applies to all entries of subject merchandise except for entries from PRC producers/exporters that have their own calculated rate. See “Separate Rates” section above.

Wuhu Qinshi, Jiangsu Light, IMA, and QMD are appropriately considered to be part of the PRC-wide entity because they failed to establish their eligibility for a separate rate. Because the PRC-wide entity did not provide requested information necessary to the instant proceeding, it is necessary that we review the PRC-wide entity. In doing so, we note that section 776(a)(1) of the Act mandates that the Department use the facts available if necessary information is not available on the record of an antidumping proceeding. In addition, section 776(a)(2) of the Act provides that if an interested party or any other person: (A) Withholds information that has been requested by the administering authority; (B) fails to provide such information by the deadlines for the submission of the information or in the form and manner requested, subject to subsections (c)(1) and (e) of section 782 of the Act; (C) significantly impedes a proceeding under this title; or (D) provides such information but the information cannot be verified as provided in section 782(i) of the Act, the Department shall, subject to section 782(d) of the Act, use the facts otherwise available in reaching the applicable determination under this title. Where the Department determines that a response to a request for information does not comply with the request, section 782(d) of the Act provides that the Department shall promptly inform the party submitting the response of the nature of the deficiency and shall, to the extent practicable, provide that party with an opportunity to remedy or explain the deficiency. Section 782(d) of the Act additionally states that if the party submits further information that is unsatisfactory or untimely, the administering authority may, subject to subsection (e), disregard all or part of the original and subsequent responses. Section 782(e) of the Act provides that the Department shall not decline to consider information that is submitted by an interested party and is necessary to the determination but does not meet all the applicable requirements established by the administering authority if: (1) The information is submitted by the deadline established for its submission; (2) the information can be verified; (3) the information is not so incomplete that it cannot serve as a reliable basis for reaching the applicable determination; (4) the interested party has demonstrated that it acted to the best of its ability in providing the information and meeting the requirements established by the administering authority with respect to the information; and (5) the information can be used without undue difficulties.

As addressed below separately for each non-responsive company, we find that the PRC-wide entity, which includes Wuhu Qinshi, Jiangsu Light, IMA, and QMD, did not respond to our request for information and that necessary information either was not provided, or the information provided could not be verified and is not sufficiently complete to enable the Department to use it for these preliminary results. Therefore, we find it necessary, under section 776(a)(2) of the Act, to use facts otherwise available as the basis for the preliminary results of this review for the PRC-wide entity.

1. Wuhu Qinshi

On March 7, 2007, the Department sent a Q&V questionnaire to Wuhu Qinshi. On March 21, 2007, the Department received an e-mail correspondence from Mr. William E. Kentor, president of Great Foods, Inc., requesting an extension of the deadline to respond to the Department's Q&V questionnaire. Mr. Kentor stated in the extension request that Mr. Qin Yi Cai, president of Wuhu Qinshi Tangye Co., Ltd., would confirm that Wuhu Qinshi never exported honey to the United States. On March 21, 2007, the Department granted a partial extension of the deadline until March 26, 2007, to respond. However, Wuhu Qinshi did not file a certified Q&V response with the Department nor provide any further correspondence.

We note that, although Great Foods, Inc.'s extension request indicated that Wuhu Qinshi would confirm that it did not export subject merchandise to the United States during the POR, the Department did not receive any correspondence from Wuhu Qinshi during this POR, and therefore find that Wuhu Qinshi is non-responsive in the administrative review. Consequently, because Wuhu Qinshi withheld requested information, failed to provide information in a timely manner, and thus significantly impeded the Department's proceeding, the Department preliminarily finds that it did not cooperate to the best of its ability. Therefore, pursuant to sections 776(a)(2)(A) and 776(a)(2)(B) of the Act, and because Wuhu Qinshi did not respond to the Department's Q&V questionnaire, sections 782(d) and (e) of the Act are not applicable.

2. Jiangsu Light

On February 12, 2007, the Department sent a Q&V questionnaire to Jiangsu Light; however, the Department did not receive a response from Jiangsu Light by the noted deadline. According to the delivery tracking information, the delivery of the package was “refused” by Jiangsu Light. See April 17, 2007, Memorandum to the file, through Christopher D. Riker, Program Manager, from Anya Naschak, Senior International Trade Analyst, regarding: 2005/2006 Administrative Review of Honey from the People's Republic of China: Results of Tracking Information for Quantity and Value Questionnaire. On March 6, 2007, petitioners provided an alternative address for Jiangsu Light, thus on March 7, 2007, the Department resent the Q&V questionnaire to the alternative address; however, the Department again did not receive a response. According to the delivery tracking information, the alternate address was undeliverable. On March 21, 2007, the Department again sent the Q&V questionnaire to the original address.⁷ Again, the Department did not receive a response from Jiangsu Light by the noted deadline. According to the delivery tracking information, Jiangsu Light again refused the attempted delivery of the Q&V questionnaire. See id.

⁷ See March 21, 2007, letter to Jiangsu Light Industry Products Imp & Exp (Group) Corp., from Christopher D. Riker, Program Manager, regarding 2005/2006 Administrative Review of the Antidumping Duty Order on Honey from the People's Republic of China.

Therefore, because the Department twice attempted to deliver, and Jiangsu Light twice refused to receive and respond to the Department's Q&V questionnaire, the Department preliminarily finds that Jiangsu Light withheld requested information, failed to provide information in a timely manner, and thus significantly impeded the Department's proceeding, and did not cooperate to the best of its ability. Therefore, pursuant to sections 776(a)(2)(A), (B), and (C) of the Act, and because Jiangsu Light did not respond to the Department's Q&V questionnaire, sections 782(d) and (e) of the Act are not applicable.

3. IMA:

On July 31, 2007, the Department identified deficiencies in IMA's questionnaire response and issued a supplemental questionnaire, due by August 14, 2007. On August 15, 2007, the Department received notification from IMA that it intended to withdraw its request for a review in the administrative review. However, as petitioners did file a timely request for a review of IMA,⁸ the Department issued a letter to IMA on August 21, 2007, notifying it that, irrespective of its withdrawal request, the Department would continue to consider IMA a mandatory respondent and that it was required to respond to the Department's questionnaires; and that if IMA did not participate, the Department may be required to base its findings on total AFA for the preliminary results.⁹ Furthermore, the Department, of its own volition, extended the deadline for IMA to respond to the Department's July 31, 2007, supplemental questionnaire until August 28, 2007. Subsequently, the Department received no response or further correspondence from IMA.

⁸ See AR Initiation Notice.

⁹ See Letter from August 21, 2007, from Catherine E. Bertrand, Acting Program Manager, to Inner Mongolia Altin Bee Keeping Co., Ltd.; Regarding the 2005/2006 Administrative Review of Honey From the People's Republic of China.

Consequently, because IMA did not respond to the Department's questionnaire, request an extension of the deadline to respond, or otherwise correspond with the Department, the Department preliminarily finds that IMA withheld requested information, failed to provide information in a timely manner, and thus significantly impeded the Department's proceeding, and did not cooperate to the best of its ability.

Because the Department finds that IMA did not cooperate, pursuant to sections 776(a)(2)(A), (B), and (C) of the Act, and because IMA did not respond to the Department's Q&V questionnaire, sections 782(d) and (e) of the Act are not applicable.

4. QMD

On October 18, 2007, having finalized verification dates, the Department received a notification from QMD stating that QMD would not participate in the scheduled verification, and QMD provided no alternative verification dates. See October 18, 2007, letter to the U.S. Department of Commerce, from Qinghuangdao Municipal Dafeng Industrial Co., Ltd., regarding: Honey from the People's Republic of China.

Because QMD did not allow verification of its questionnaire response, the company denied the Department an opportunity to verify the completeness and accuracy of any of its sales and production records. Because QMD denied the Department the opportunity to verify its questionnaire responses, the Department has preliminarily determined that QMD significantly impeded the Department's proceeding by providing information that could not be verified, and thus QMD has not cooperated to the best of its ability. Therefore, pursuant to sections 776(a)(2)(A), (B), and (C) of the Act, the Department preliminarily finds that the application of facts available is appropriate for these preliminary results.

Pursuant to section 776(b) of the Act, we find that the PRC-wide entity, which includes Wuhu Qinshi, Jiangsu Light, IMA, and QMD, failed to cooperate by not acting to the best of its ability. As noted above, the PRC-wide entity informed the Department that it would not participate in this review, or otherwise did not provide the requested information, despite repeated requests that it do so. This information was in the sole possession of the respondents, and could not be obtained otherwise. Thus, because the PRC-wide entity refused to participate fully in this proceeding, we find it appropriate to use an inference that is adverse to the interests of the PRC-wide entity in selecting from among the facts otherwise available. By doing so, we ensure that the companies that are part of the PRC-wide entity will not obtain a more favorable result by failing to cooperate than had they cooperated fully in this review.

Selection of AFA Rate

In deciding which facts to use as AFA, section 776(b) of the Act and 19 CFR 351.308(c)(1) authorize the Department to rely on information derived from (1) the petition, (2) a final determination in the investigation, (3) any previous review or determination, or (4) any information placed on the record. In reviews, the Department normally selects, as AFA, the highest rate on the record of any segment of the proceeding. See, e.g., Freshwater Crawfish Tail Meat from the People's Republic of China: Notice of Final Results of Antidumping Duty Administrative Review, 68 FR 19504, 19506 (April 21, 2003). The Court of International Trade (“CIT”) and the Federal Circuit have consistently upheld the Department's practice in this regard. See Rhone Poulenc, Inc. v. United States, 899 F.2d 1185, 1190 (Fed. Circ. 1990) (“Rhone Poulenc”); NSK Ltd. v. United States, 346 F. Supp. 2d 1312, 1335 (CIT 2004) (upholding a 73.55 percent total AFA rate, the highest available dumping margin from a different respondent in a LTFV investigation); see also Kompass Food Trading Int'l v. United States, 24 CIT 678, 689 (2000) (upholding a 51.16 percent total AFA rate, the highest available dumping margin from a different, fully cooperative respondent); and Shanghai Taoen International Trading Co., Ltd. v. United States, 360 F. Supp 2d 1339, 1348 (CIT 2005) (upholding a 223.01 percent total AFA rate, the highest available dumping margin from a different respondent in a previous administrative review).

The Department's practice when selecting an adverse rate from among the possible sources of information is to ensure that the margin is sufficiently adverse “as to effectuate the purpose of the facts available role to induce respondents to provide the Department with complete and accurate information in a timely manner.” See Static Random Access Memory Semiconductors from Taiwan; Final Determination of Sales at Less than Fair Value, 63 FR 8909, 8932 (February 23, 1998). The Department's practice also ensures “that the party does not obtain a more favorable result by failing to cooperate than if it had cooperated fully.” See SAA at 870; see also Final Determination of Sales at Less than Fair Value: Certain Frozen and Canned Warmwater Shrimp from Brazil, 69 FR 76910, 76912 (December 23, 2004); D&L Supply Co. v. United States, 113 F.3d 1220, 1223 (Fed. Cir. 1997). In choosing the appropriate balance between providing respondents with an incentive to respond accurately and imposing a rate that is reasonably related to the respondent's prior commercial activity, selecting the highest prior margin “reflects a common sense inference that the highest prior margin is the most probative evidence of current margins, because, if it were not so, the importer, knowing of the rule, would have produced current information showing the margin to be less.” Rhone Poulenc, 899 F.2d at 1190. Consistent with the statute, court precedent, and its normal practice, the Department has assigned the rate of 221.02 percent, the highest rate on the record of any segment of the proceeding, to the PRC-wide entity, which includes Wuhu Qinshi, Jiangsu Light, QMD, and IMA as AFA. See, e.g., Honey from the People's Republic of China: Final Results and Final Rescission, In Part, of Antidumping Duty Administrative Review, 72 FR 37715, 37717 (July 11, 2007) (“Fourth Honey AR Final Results”). As discussed further below, this rate has been corroborated.

Corroboration of Secondary Information Used as AFA

Section 776(c) of the Act provides that, where the Department selects from among the facts otherwise available and relies on “secondary information,” the Department shall, to the extent practicable, corroborate that information from independent sources reasonably at the Department's disposal. Secondary information is described in the SAA as “[i]nformation derived from the petition that gave rise to the investigation or review, the final determination concerning the subject merchandise, or any previous review under section 751 concerning the subject merchandise.” See SAA at 870. The SAA states that “corroborate” means to determine that the information used has probative value. The Department has determined that to have probative value information must be reliable and relevant. See Tapered Roller Bearings and Parts Thereof, Finished and Unfinished from Japan, and Tapered Roller Bearings Four Inches or Less in Outside Diameter, and Components Thereof, from Japan: Preliminary Results of Antidumping Duty Administrative Reviews and Partial Termination of Administrative Reviews, 61 FR 57391, 57392 (November 6, 1996), unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997). The SAA also states that independent sources used to corroborate such evidence may include, for example, published price lists, official import statistics and customs data, and information obtained from interested parties during the particular investigation. See Preliminary Determination of Sales at Less Than Fair Value: High and Ultra-High Voltage Ceramic Station Post Insulators from Japan, 68 FR 35627 (June 16, 2003) unchanged in Notice of Final Determination of Sales at Less Than Fair Value: High and Ultra-High Voltage Ceramic Station Post Insulators from Japan, 68 FR 62560 (November 5, 2003); and, Final Determination of Sales at Less Than Fair Value: Live Swine From Canada, 70 FR 12181, 12183 (March 11, 2005).

To be considered corroborated, information must be found to be both reliable and relevant. Unlike other types of information, such as input costs or selling expenses, there are no independent sources for calculated dumping margins. The only sources for calculated margins are administrative determinations. The AFA rate we are applying for the current review was calculated during the immediately preceding, fourth administrative review of honey from the PRC. See Fourth Honey AR Final Results. Furthermore, no information has been presented in the current review that calls into question the reliability of this information. Thus, the Department finds that the information is reliable.

With respect to the relevance aspect of corroboration, the Department will consider information reasonably at its disposal to determine whether a margin continues to have relevance. Where circumstances indicate that the selected margin is not appropriate as adverse facts available, the Department will disregard the margin and determine an appropriate margin. See, e.g., Fresh Cut Flowers from Mexico: Final Results of Antidumping Administrative Review, 61 FR 6812, 6814 (February 22, 1996). Similarly, the Department does not apply a margin that has been discredited. See D & L Supply Co. v. United States, 113 F.3d 1220, 1221 (Fed. Cir. 1997) (the Department will not use a margin that has been judicially invalidated). The AFA rate we are applying for the current review was corroborated in the proceeding that immediately precedes the current POR, the fourth administrative review of honey from the PRC. See Fourth Honey AR Final Results. Moreover, as there is no information on the record of this review that demonstrates that this rate is not appropriately used as adverse facts available, we determine that this rate has relevance.

As the Fourth Honey AR Final Results margin is both reliable and relevant, we find that it has probative value. As a result, the Department determines that the Fourth Honey AR Final Results margin is corroborated for the purposes of this administrative review and may reasonably be applied to the PRC wide entity, which includes Wuhu Qinshi, Jiangsu Light, QMD, and IMA. Because these are the preliminary results of the review, the Department will consider all margins on the record at the time of the final results of review for the purpose of determining the most appropriate final margin for Wuhu Qinshi, Jiangsu Light, QMD, and IMA. See Preliminary Determination of Sales at Less Than Fair Value: Solid Fertilizer Grade Ammonium Nitrate From the Russian Federation, 65 FR 1139 (January 7, 2000) unchanged in Notice of Final Determination of Sales at Less Than Fair Value; Solid Fertilizer Grade Ammonium Nitrate from the Russian Federation, 65 FR 42669 (July 11, 2000).

Bona Fide Sale Analysis—QHD Sanhai

For the reasons stated below, we preliminarily find that QHD Sanhai's reported U.S. sale during the POR to be bona fide based on the totality of the facts on the record. Specifically, we find that: (1) The price and quantity of QHD Sanhai's sale are indicative of its normal business practices, as the U.S. sales price and quantity was within the range of its sales price and quantity to POR and post-POR customers; (2) QHD Sanhai's sale was made to an unaffiliated party at arm's length; and (3) there is no record evidence that indicates that QHD Sanhai's sale was not based on commercial principles. While the quantity of QHD Sanhai's sale was small compared to other entries of subject merchandise from the PRC into the United States during the POR, absent other factors, single sales of small quantities are not inherently commercially unreasonable. See Memorandum to James C. Doyle, Director, AD/CVD Operations, Office 9, Import Administration, through Scot T. Fullerton, Program Manager, AD/CVD Operations, Office 9, from Michael Quigley, Senior International Trade Analyst, AD/CVD Operations, Office 9, regarding 2004/2005 Antidumping Duty New Shipper Review of the Antidumping Duty Order on Honey from the People's Republic of China: Bona Fide Analysis of the Sale Reported by QHD Sanhai Co., Ltd. (December 17, 2007).

Verification

As provided in section 782(i)(3) of the Act and 19 CFR 351.307(b)(iv), from November 5, through November 7, 2007, the Department verified the questionnaire responses of QHD Sanhai for the new shipper review. For QHD Sanhai, the Department used standard verification procedures, including on-site inspection of the manufacturer's and exporter's facilities, and examination of relevant sales and financial records. Our verification results are outlined in the verification report for each company. For a further discussion, see Memorandum to the File, through Scot T. Fullerton, Program Manager, AD/CVD Operations, Office 9, from Bobby Wong, International Trade Compliance Analyst, and Erin Begnal, Senior International Trade Compliance Analyst, regarding Verification of the Questionnaire Responses of QHD Sanhai Co., Ltd., in the Antidumping New Shipper Review of Honey from the People's Republic of China (“QHD Verification Report”).

Scope of Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under order is dispositive.

Fair Value Comparisons

In the new shipper review, to determine whether QHD Sanhai's sale to the United States was made at less than fair value, we compared the export price (“EP”) to normal value (“NV”), as described in the “U.S. Price,” and “Normal Value” sections of this notice. We compared NV to weighted-average EPs in accordance with section 777A(d)(1) of the Act.

U.S. Price-Export Price

For QHD Sanhai, we based U.S. price on EP in accordance with section 772(a) of the Act, because the first sale to an unaffiliated purchaser was made prior to importation, and constructed export price (“CEP”) was not otherwise warranted by the facts on the record. We calculated EP based on the packed price from the exporter to the first unaffiliated customer in the United States. Where applicable, we deducted foreign movement expenses, foreign brokerage and handling expenses, and international freight expenses from the starting price (gross unit price), in accordance with section 772(c) of the Act.

Where foreign movement was provided by PRC service providers or paid for in Renminbi (“RMB”), we valued these services using surrogate values (see “Factors of Production” section below for further discussion).

For a complete discussion of the calculation of the U.S. price for QHD Sanhai, see Memorandum to the File, through Scot T. Fullerton, Program Manager, AD/CVD Operations, Office 9, from Bobby Wong, International Trade Compliance Analyst, AD/CVD Operations, Office 9, regarding “Honey From the People's Republic of China—Analysis Memorandum for the Preliminary Results of New Shipper Review of QHD Sanhai Food Co., Ltd.,” dated December 17, 2007 (“QHD Sanhai Analysis Memorandum”).

Normal Value

Section 773(c)(1) of the Act provides that the Department shall determine the NV using a factors-of-production (“FOP”) methodology if the merchandise is exported from an NME and the information does not permit the calculation of NV using home-market prices, third-country prices, or constructed value under section 773(a) of the Act. The Department bases NV on the FOP because the presence of government controls on various aspects of non-market economies renders price comparisons and the calculation of production costs invalid under the Department's normal methodologies.

Factor Valuation Methodology

In accordance with section 773(c) of the Act, we calculated NV based on FOP data reported by QHD Sanhai for the POR. To calculate NV, we multiplied the reported per-unit factor-consumption rates by publicly available surrogate values (except as discussed below).

In selecting the surrogate values, we considered the quality, specificity, and contemporaneity of the data. As appropriate, we adjusted input prices by including freight costs to make them delivered prices. Specifically, we added to each Indian import surrogate value, a surrogate freight cost calculated from the shorter of the reported distance from the domestic supplier to the factory or the distance from the nearest seaport to the factory, where appropriate. This adjustment is in accordance with the Court of Appeals for the Federal Circuit's decision in Sigma Corp. v. United States, 117 F. 3d 1401, 1407-1408 (Fed. Cir. 1997). A detailed description of all surrogate values used for respondents can be found in the Memorandum to the File, Through Scot T. Fullerton, Program Manager, From Michael Quigley, Senior International Trade Analyst, regarding, “Antidumping Duty Administrative and New Shipper Review of Honey from the People's Republic of China: Selection of Factor Values,” dated December 17, 2007 (“Factor Value Memorandum”), and the QHD Sanhai Analysis Memorandum.

For this preliminary determination, in accordance with the Department's practice, we used data from the Indian Import Statistics in order to calculate surrogate values for QHD Sanhai's material inputs. In selecting the best available information for valuing FOP in accordance with section 773(c)(1) of the Act, the Department's practice is to select, to the extent practicable, surrogate values which are non-export average values, most contemporaneous with the POI, product-specific, and tax-exclusive. See, e.g., Notice of Preliminary Determination of Sales at Less Than Fair Value, Negative Preliminary Determination of Critical Circumstances and Postponement of Final Determination: Certain Frozen and Canned Warmwater Shrimp From the Socialist Republic of Vietnam, 69 FR 42672, 42682 (July 16, 2004), unchanged in Final Determination of Sales at Less Than Fair Value: Certain Frozen and Canned Warmwater Shrimp from the Socialist Republic of Vietnam, 69 FR 71005 (December 8, 2004). The record shows that the Indian import statistics represent import data that is contemporaneous with the POR, product-specific, and tax-exclusive. Where we could not obtain publicly available information contemporaneous to the POR with which to value factors, we adjusted the surrogate values, where appropriate, using the Indian Wholesale Price Index (“WPI”) as published in the International Financial Statistics of the International Monetary Fund.

Furthermore, with regard to the Indian import-based surrogate values, we have disregarded import prices that we have reason to believe or suspect may be subsidized. We have found in other proceedings that Indonesia, South Korea, and Thailand may maintain broadly available, non-industry-specific export subsidies and, therefore, it is reasonable to infer that all exports to all markets from these countries may be subsidized. See, e.g., Amended Final Determination of Sales at Less than Fair Value: Automotive Replacement Glass Windshields from the People's Republic of China, 67 FR 11670 (March 15, 2002) and accompanying Issues and Decision Memorandum at Comment 4; see also Notice of Final Determination of Sales at Less Than Fair Value and Negative Final Determination of Critical Circumstances: Certain Color Television Receivers From the People's Republic of China, 69 FR 20594 (April 16, 2004) and accompanying Issues and Decision Memorandum at Comment 7 (“CTVs from the PRC”). We are also guided by the legislative history not to conduct a formal investigation to ensure that such prices are not subsidized. See H.R. Rep. 100-576 (1988) at 590. Rather, Congress indicated that the Department base its decision on information that is available to it at the time it makes its determination. Therefore, we have not used prices from these countries either in calculating the Indian import-based surrogate values or in calculating market-economy input values. In instances where a market-economy input was obtained solely from suppliers located in these countries, we used Indian import-based surrogate values to value the input. See Final Determination of Sales at Less Than Fair Value: Certain Automotive Replacement Glass Windshields From The People's Republic of China, 67 FR 6482 (February 12, 2002), and accompanying Issues and Decision Memorandum at Comment 1.

For QHD Sanhai, the company reported that it purchased all of its inputs consumed in the production of the subject merchandise under review from non-market economy suppliers and paid for such inputs in RMB. Therefore, the Department used the Indian Import Statistics to value all raw material and packing material inputs consumed by QHD Sanhai in the production of the subject merchandise during the POR.

To value unfiltered/unprocessed honey (“raw honey”), the Department used the raw honey price ¹⁰ published by the Regional Centre for Development Cooperation (“RCDC”) (on its Web site: www.banajata.org) for these preliminary results. The Department finds that the RCDC raw honey price is reliable, as the organization collects its own raw and processed honey price information directly from various Indian honey markets. On December 6, 2007, the Department contacted RCDC representatives via e-mail and requested information regarding how the unprocessed honey price information was collected. Mr. Manoranjan Mohanty, an RCDC official in Orissa, India, explained that RCDC's field officers collect honey prices from the local markets. See December 17, 2007, Memorandum to the file, from Michael Quigley, Senior International Trade Analyst, regarding RCDC telephone conversation. Furthermore, the Department recognizes that RCDC is a non-governmental organization, which works to strengthen the community-based management of natural resources in Orissa and surrounding states, and maintains updated market prices of various non-timber forest products for various major markets in India. Additionally, the Department finds that RCDC-published unprocessed honey prices are more contemporaneous to the instant POR than the EDA Rural System Pvt. Ltd., data that the Department used in previous segments of the review. However, because the unprocessed honey price data published by RCDC are not contemporaneous to the POR, we deflated the price to be contemporaneous with the instant POR using WPI.

¹⁰ The honey price published by RCDC can be found at http://www.banajata.org/m/a1.htm.

To value electricity, the Department used rates from Key World Energy Statistics 2003, published by the International Energy Agency. Because these data were not contemporaneous to the POR, we adjusted for inflation using WPI.

Consistent with 19 CFR 351.408(c)(3), we valued direct, indirect, and packing labor, using the most recently calculated regression-based wage rate, which relies on 2004 data. This wage rate can currently be found on the Department's Web site on Import Administration's home page, Import Library, Expected Wages of Selected NME Countries, revised in January 2007, http://ia.ita.doc.gov/wages/index.html. The source of these wage-rate data on the Import Administration's Web site is the Yearbook of Labour Statistics 2002, ILO (Geneva: 2002), Chapter 5B: Wages in Manufacturing. Because this regression-based wage rate does not separate the labor rates into different skill levels or types of labor, we have applied the same wage rate to all skill levels and types of labor reported by QHD Sanhai.

To value water, the Department used data from the Maharashtra Industrial Development Corporation (http://www.midindia.orgwww.midcindia.org) since it includes a wide range of industrial water tariffs. This source provides 386 industrial water rates within the Maharashtra province from June 2003: 193 of the water rates were for the “inside industrial areas” usage category and 193 of the water rates were for the “outside industrial areas” usage category. Because the value was not contemporaneous with the POR, we adjusted the rate for inflation.

To value coal, the Department calculated a POR contemporaneous value of steam coal by deriving a weighted-average per unit price based on the Indian import volume and value as published by Indian Import Statistics.

We used Indian transport information to value the foreign freight-in costs of the raw materials. The Department determined the best available information for valuing truck freight to be from www.infreight.com. This source provides daily rates from six major points of origin to five destinations in India during the POR. The Department obtained a price quote on the first day of each month of the POR from each point of origin to each destination and averaged the data accordingly. See Factor Value Memorandum. Consistent with the calculation of inland truck freight, the Department used the same freight distances used in the calculation of inland truck freight, as reported by www.infreight.com to derive a value in Rupees per kilogram per kilometer.

To value the cost of brokerage and handling expenses, the Department calculated a simple average based on the public version responses of two companies, (1) Kejriwal Paper Ltd.'s January 9, 2006, submission in the antidumping duty investigation of Lined Paper from India (See Notice of Final Determination of Sales at Less Than Fair Value, and Negative Determination of Critical Circumstances: Certain Lined Paper Products from India, 71 FR 45012 (August 8, 2006) (“Kejriwal”)); and (2) Agro Dutch Industries Limited (“Agro Dutch”), submitted in the course of 2004/2005 Antidumping Duty Investigation of Lined Paper from India and the 2004/2005 {Sixth} Administrative Review of Certain Preserved Mushrooms from India, respectively. The Department derived the average per-unit amount from each source and adjusted each average rate for inflation. Finally, the Department averaged the average per-unit amounts to derive an overall average rate for the POR.

To value factory overhead; sales, general, and administrative expenses (“SG&A”); and profit; we relied upon publicly available information in the 2004-2005 annual report of MHPC, a producer of the subject merchandise in India. See Factor Value Memorandum.

Currency Conversion

We made currency conversions into U.S. dollars, in accordance with section 773A(a) of the Act, based on the exchange rates in effect on the dates of the U.S. sales as certified by the Federal Reserve Bank.

Preliminary Results of Review

We preliminarily determine that the following margin exists during the period December 1, 2005, through November 30, 2006:

Honey From the PRC
| Percent
New Shipper Review Respondent:
• QHD Sanhai | 0.0
Administrative Review Separate Rate Respondents:
• Zhejiang Native | 45.46
• Dongtai Peak | 45.46

We will disclose our analysis to parties to these proceedings within five days of the date of publication of this notice. See 19 CFR 351.224(b) (2007). Any interested party may request a hearing within 30 days of publication of this notice.

Interested parties who wish to request a hearing or to participate if one is requested, must submit a written request to the Assistant Secretary for Import Administration within 30 days of the date of publication of this notice. Requests should contain: (1) The party's name, address, and telephone number; (2) the number of participants; and (3) a list of issues to be discussed. See 19 CFR 351.310(c).

Issues raised in the hearing will be limited to those raised in case and rebuttal briefs. Case briefs from interested parties may be submitted not later than 30 days of the date of publication of this notice, pursuant to 19 CFR 351.309(c). Rebuttal briefs, limited to issues raised in the case briefs, will be due five days later, pursuant to 19 CFR 351.309(d). Parties who submit case or rebuttal briefs in this proceeding are requested to submit with each argument (1) a statement of the issue and (2) a brief summary of the argument. Parties are also encouraged to provide a summary of the arguments not to exceed five pages and a table of statutes, regulations, and cases cited.

The Department will issue the final results of this review, including the results of its analysis of issues raised in any such written briefs or at the hearing, if held, not later than 120 days after the date of publication of this notice.

Assessment Rates

Pursuant to 19 CFR 351.212(b), the Department will determine, and CBP shall assess, antidumping duties on all appropriate entries. The Department will issue appropriate assessment instructions directly to CBP 15 days after publication of the final results of this review. We will instruct CBP to assess antidumping duties on all appropriate entries covered by this review if any assessment rate calculated in the final results of this review is above de minimis. The final results of this review shall be the basis for the assessment of antidumping duties on entries of merchandise covered by the final results of this review and for future deposits of estimated duties, where applicable.

Cash Deposit Requirements

Administrative Review

The following cash deposit requirements will be effective upon publication of the final results of this administrative review for all shipments of the subject merchandise entered, or withdrawn from warehouse, for consumption on or after the publication date, as provided for by section 751(a)(2)(C) of the Act: (1) The cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 221.02 percent; and (4) for all non-PRC exporters of subject merchandise which have not received their own rate, the cash deposit rate will be the rate applicable to the PRC exporters that supplied that non-PRC exporter. These deposit requirements, when imposed, shall remain in effect until publication of the final results of the next administrative review.

New Shipper Review

The following cash-deposit requirements will be effective upon publication of the final results of this new shipper review for all shipments of subject merchandise from QHD Sanhai entered, or withdrawn from warehouse, for consumption on or after the publication date, as provided by section 751(a)(2)(C) of the Act: (1) For subject merchandise produced and exported by QHD Sanhai, the cash-deposit rate will be de minimis; (2) for subject merchandise exported by QHD Sanhai but not manufactured by QHD Sanhai, the cash deposit rate will continue to be the PRC-wide rate (i.e., 221.02 percent); and (3) for subject merchandise exported by QHD Sanhai, but manufactured by any other party, the cash deposit rate will be the PRC-wide rate (i.e., 221.02 percent).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative and new shipper review and notice are in accordance with sections 751(a)(1), 751(a)(2)(B), and 777(i) of the Act and 19 CFR 351.213 and 351.214.

Dated: December 17, 2007.
David M. Spooner,
Deputy Assistant Secretary for Import Administration.

[FR Doc. E8-671 Filed 1-15-08; 8:45 am]

BILLING CODE 3510-DS-P